DEPARTMENT OF AGRICULTURE

Forest Service

Information Collection; Community Forest and Open Space Program

AGENCY: Forest Service, USDA.

ACTION: Notice; request for comment.

SUMMARY: In accordance with the Paperwork Reduction Act of 1995, the Forest Service is seeking comments from all interested individuals and organizations on the extension with revision of a currently approved information collection, Community Forest and Open Space Program.

DATES: Comments must be received in writing on or before August 6, 2021 to be assured of consideration. Comments received after that date will be considered to the extent practicable.

ADDRESSES: Comments concerning this notice should be addressed:

Email: SM.FS.CFP@usda.gov.

Mail: Steve Koehn, Director, Cooperative Forestry Staff, Forest Service, USDA, Mail Stop 1123, 1400 Independence Avenue SW, Washington, DC 20250-1123.

Please do not include in your comments information of a confidential nature, such as sensitive personal information or proprietary information. If you send an email comment, your email address will be automatically captured and included as part of the comment that is placed in the public docket and made available on the internet. Please note that responses to this public comment request containing any routine notice about the confidentiality of the communication will be treated as public comments that may be made available to the public notwithstanding the inclusion of the routine notice.

The public may request an electronic copy of the draft supporting statement and/or any comments received be sent via return email. Requests should be emailed to scott.stewart@usda.gov.

FOR FURTHER INFORMATION CONTACT: Scott Stewart, Program Manager, State and Private Forestry, Cooperative Forestry Staff, 202-205-1618. Individuals who use telecommunication devices for the deaf (TDD) may call the Federal Information Relay Service (FIRS) at 1-800-877-8339 twenty-four hours a day, every day of the year, including holidays.

SUPPLEMENTARY INFORMATION: Title: Community Forest and Open Space Program.

OMB Number: 0596-0227.

Expiration Date of Approval: December 31, 2021.

Type of Request: Renewal with revisions of a currently approved information collection.

Abstract: The Forest Service is authorized to implement the Community Forest and Open Space Program (CFP) under Section 8003 of the Food, Conservation, and Energy Act of 2008 (Pub. L. 110-246; 122 Stat. 2043; 7 U.S.C. 8701), which amends the Cooperative Forestry Assistance Act of 1978 (16 U.S.C. 2103d). The purpose of the Community Forest Program is to achieve community benefits through grants to local governments, Tribal Governments, and qualified nonprofit organizations to establish community forests by acquiring and protecting private forestlands. The information requirements will be used to help the Forest Service in the following areas: (1) To determine that the applicant is eligible to receive funds under the program, (2) to determine if the proposal meets the qualifications in the law and regulations, (3) to evaluate and rank the proposals based on a standard, consistent information; and (4) to determine if the project costs are allowable and sufficient cost share is provided.

Local governmental entities, Tribal Governments, and qualified nonprofit organizations are the only entities eligible for the program, and therefore are the only organizations from which information will be collected.

The information collection currently required for a request for proposals and grant application is approved and has been assigned the OMB Control No. 0596-0227.

Estimated Annual Number of Respondents: 50.

Estimated Burden per Response: 24 hours.

Estimated Number of Responses per Respondent: 1.

Estimated Number of Total Annual Responses: 50.

Estimated Total Annual Burden on Respondents: 1,200 hours.

Comment is Invited: Comment is invited on: (1) Whether this collection of information is necessary for the stated purposes and the proper performance of the functions of the Agency, including whether the information will have practical or scientific utility; (2) the accuracy of the Agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

All comments received in response to this notice, including names and addresses when provided, will be a matter of public record. Comments will be summarized and included in the submission request for Office of Management and Budget approval.

Jaelith Hall-Rivera,
Acting Deputy Chief, State & Private Forestry.

[FR Doc. 2021-11885 Filed 6-4-21; 8:45 am]

BILLING CODE 3411-15-P